NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted October 3, 2011.

ADDRESSES: Interested parties are invited to submit written comments to the NCUA Clearance Officer listed below: Clearance Officer: Tracy Sumpter, National Credit Union Administration, 1775 Duke Street, Alexandria, VA 22314-3428, Fax No. 703-837-2861, E-mail: OCIOmail@ncua.gov.

FOR FURTHER INFORMATION CONTACT: Requests for additional information should be directed to Tracy Sumpter at the National Credit Union Administration, 1775 Duke Street, Alexandria, VA 22314-3428, or at (703) 518-6444.

SUPPLEMENTARY INFORMATION: Proposal for the following collection of information:

Title: Corporate Credit Union Monthly Call Report.

OMB Number: 3133-0067.

Form Number: NCUA 5310.

Type of Review: Reinstatement, without change, of a previously approved collection.

Description: NCUA utilizes the information to monitor financial conditions in corporate credit unions, and to allocate supervision and examination resources.

Respondents: Corporate credit unions, or “banker's banks” for natural person credit unions.

Estimated No. of Respondents/Record keepers: 27.

Estimated Burden Hours per Response: 8 hours.

Frequency of Response: Monthly.

Estimated Total Annual Burden Hours: 2,592 hours.

Estimated Total Annual Cost: $64,800.

By the National Credit Union Administration Board on August 26, 2011.
Mary Rupp,
Secretary of the Board.

[FR Doc. 2011-22338 Filed 8-31-11; 8:45 am]

BILLING CODE 7535-01-P